NATIONAL AERONAUTICS AND SPACE ADMINISTRATION

[Notice (14-018)]

NASA Advisory Council; Science Committee; Planetary Science Subcommittee; Meeting

AGENCY: National Aeronautics and Space Administration.

ACTION: Notice of meeting.

SUMMARY: In accordance with the Federal Advisory Committee Act, Public Law 92-463, as amended, the National Aeronautics and Space Administration (NASA) announces a meeting of the Planetary Science Subcommittee of the NASA Advisory Council (NAC). This Subcommittee reports to the Science Committee of the NAC. The meeting will be held via Teleconference and WebEx for the purpose of soliciting, from the scientific community and other persons, scientific and technical information relevant to program planning.

DATES: Wednesday, March 12, 2014, 8:30 a.m. to 4:30 p.m., Local Time.

ADDRESSES: NASA Headquarters, 300 E Street SW., Washington, DC 20546.

FOR FURTHER INFORMATION CONTACT: Ms. Ann Delo, Science Mission Directorate, NASA Headquarters, Washington, DC 20546, (202) 358-0750, fax (202) 358-2779, or ann.b.delo@nasa.gov.

SUPPLEMENTARY INFORMATION: This meeting will be open to the public telephonically and by WebEx. Any interested person may call the USA toll free conference call number 888-957-9861, passcode 64849, to participate in this meeting by telephone. The WebEx link is https://nasa.webex.com/, meeting number 996 838 402, password is PSS@Mar12.

The agenda for the meeting includes the following topics:

—Planetary Science Division Update and FY 2015 Budget Roll out

—Planetary Science Division Research and Analysis Program Restructuring.

It is imperative that the meeting be held on this date to accommodate the scheduling priorities of the key participants.

Patricia D. Rausch,
Advisory Committee Management Officer, National Aeronautics and Space Administration.

[FR Doc. 2014-03288 Filed 2-13-14; 8:45 am]

BILLING CODE 7510-13-P